DEPARTMENT OF VETERANS AFFAIRS

[OMB Control No. 2900-0586]

Agency Information Collection Activity Under OMB Review: Acquisition Regulation (VAAR) Clause 852.211-72, Technical Industry Standards

AGENCY: Office of Acquisition and Logistics, Department of Veterans Affairs.

ACTION: Notice.

SUMMARY: In compliance with the Paperwork Reduction Act (PRA) of 1995, this notice announces that the Office of Acquisition and Logistics (OAL), Department of Veterans Affairs, will submit the collection of information abstracted below to the Office of Management and Budget (OMB) for review and comment. The PRA submission describes the nature of the information collection and its expected cost and burden and includes the actual data collection instrument.

DATES: Written comments and recommendations for the proposed information collection should be sent within 30 days of publication of this notice to www.reginfo.gov/public/do/PRAMain. Find this particular information collection by selecting “Currently under Review—Open for Public Comments” or by using the search function. Refer to “OMB Control No. 2900-0586.”

FOR FURTHER INFORMATION CONTACT: Maribel Aponte, Office of Enterprise and Integration, Data Governance Analytics (008), 810 Vermont Ave. Washington, DC 20006, (202) 266-4688 or email maribel.aponte@va.gov. Please refer to “OMB Control No. 2900-0586” in any correspondence.

SUPPLEMENTARY INFORMATION:

Authority: Public Law 104-13; 44 U.S.C. 3501-3521.

Title: Acquisition Regulation (VAAR) Clause 852.211-72, Technical Industry Standards.

OMB Control Number: 2900-0586.

Type of Review: Extension of a currently approved collection.

Abstract: This Paperwork Reduction Act (PRA) submission seeks an extension of Office of Management and Budget (OMB) approval No. 2900-0586 for collection of information for both commercial and non-commercial item, service, and construction solicitations and contracts using VAAR Clause 852.211-72, Technical Industry Standards, as prescribed in CFR Title 48, Federal Acquisition Regulations System, VAAR 811.204-70, Contract clause. VAAR clause 852.211-72, Technical Industry Standards, requires that items offered for sale to VA under the solicitation conform to certain technical industry standards, such as United States Department of Agriculture (USDA) or the USDA Institutional Meat Purchase Specifications (IMPS) and that the contractor furnish evidence to VA that the items meet that requirement. The evidence is normally in the form of a tag or seal affixed to the item, such as a label on beef product. In most cases, this requires no additional effort on the part of the contractor, as the items come from the factory with the tags already in place, as part of the manufacturer's standard manufacturing operation. Occasionally, for items not already meeting standards or for items not previously tested, a contractor will have to furnish a certificate from an acceptable laboratory certifying that the- items furnished have been tested in accordance with, and conform to, the specified standards. Only firms whose products have not previously been tested to ensure the products meet the industry standards required under the solicitation and contract will be required to submit a separate certificate. The information will be used to ensure that the items being purchased meet minimum safety standards and to protect VA employees, VA beneficiaries, and the public.

An agency may not conduct or sponsor, and a person is not required to respond to a collection of information unless it displays a currently valid OMB control number. The Federal Register Notice with a 60-day comment period soliciting comments on this collection of information was published at 87FR45856 on July 29, 2022, pages 45856 to 45857.

Affected Public: Business or other for profit.

Estimated Annual Burden: 559 hours.

Estimated Average Burden per Respondent: 30 minutes.

Frequency of Response: One per contract.

Estimated Number of Respondents: 1,118.

By direction of the Secretary.
Maribel Aponte,
VA PRA Clearance Officer, Office of Enterprise and Integration, Data Governance Analytics, Department of Veterans Affairs.

[FR Doc. 2022-21591 Filed 10-4-22; 8:45 am]

BILLING CODE 8320-01-P